ENVIRONMENTAL PROTECTION AGENCY

40 CFR Part 52

[CT-062-7221; A-1-FRL-6727-7]

Approval and Promulgation of Air Quality Implementation Plans; Connecticut; Post-1996 Rate-of-Progress Plans

AGENCY: Environmental Protection Agency (EPA).

ACTION: Proposed rule.

SUMMARY: EPA is proposing to approve State Implementation Plan (SIP) revisions submitted by the State of Connecticut. The revisions establish post-1996 rate-of-progress plans, including minor adjustments to the 1990 base year inventory, for the Greater Hartford serious ozone nonattainment area, and for the Connecticut portion of the New York, New Jersey, Connecticut (NY-NJ-CT) severe ozone nonattainment area. The intended effect of this action is to propose approval of these SIP revisions as meeting the requirements of the Clean Air Act.

DATES: Written comments must be received on or before July 31, 2000. Public comments on this document are requested and will be considered before taking final action on this SIP revision.

ADDRESSES: Comments may be mailed to David B. Conroy, Chief, Air Quality Planning Unit (mail code CAQ), U.S. Environmental Protection Agency, Region I, One Congress Street, Boston, MA 02114-2023. Copies of the documents relevant to this action are available for public inspection during normal business hours, by appointment at the Office of Ecosystem Protection, U.S. Environmental Protection Agency, Region I, One Congress Street, 11th floor, Boston, MA, and at the Department of Environmental Protection, Bureau of Air Management, 79 Elm Street, Hartford, Connecticut.

FOR FURTHER INFORMATION CONTACT: Robert McConnell, (617) 918-1046.

SUPPLEMENTARY INFORMATION: This Supplementary Information section is organized as follows:

A. What action is EPA taking today?

B. Why was Connecticut required to reduce its emissions of ozone forming pollutants?

C. Which specific air pollutants are targeted by Connecticut's plans?

D. What are the sources of these pollutants?

E. What harmful effects can these pollutants produce?

F. Should I be concerned if I live near an industry that emits a significant amount of these pollutants?

G. To what degree do Connecticut's plans reduce emissions?

H. What changes were made to Connecticut's base year inventory?

I. How will Connecticut achieve these emission reductions?

J. Have these emission reductions improved air quality in Connecticut?

K. Connecticut is downwind of many large metropolitan areas. Do pollutants emitted in other States affect air quality in Connecticut?

L. EPA recently required 22 eastern states, including Connecticut, to develop plans that will significantly reduce nitrogen oxide emissions. Given that requirement, why is approval of these plans needed?

M. Has Connecticut met its contingency measure obligation?

N. Are conformity budgets contained in these plans?

A. What Action Is EPA Taking Today?

EPA is proposing approval of post-1996 rate-of-progress (ROP) emission reduction plans, and minor revisions to the 1990 base year inventory, submitted by the State of Connecticut for the Greater Hartford serious ozone nonattainment area, and the Connecticut portion of the NY-NJ-CT severe ozone nonattainment area, which is a multi-state ozone nonattainment area, as revisions to Connecticut's SIP. Connecticut did not enter into an agreement with New York and New Jersey to do a multi-state ROP plan, and therefore submitted a plan to reduce emissions only in the Connecticut portion of this area. EPA is proposing action today only on the Connecticut portion of the NY-NJ-CT post-1996 plan.

The post-1996 ROP plans document how Connecticut complied with the provisions of section 182(c)(2) of the Federal Clean Air Act (the Act). These sections of the Act require states containing certain ozone nonattainment areas develop strategies to reduce emissions of the pollutants that react to form ground level ozone.

B. Why Was Connecticut Required To Reduce Its Emissions of Ozone Forming Pollutants?

Connecticut was required to develop plans to reduce ozone precursor emissions because it contains ozone nonattainment areas. A final rule published by EPA on November 6, 1991 (56 FR 56694) designated portions of Fairfield and Litchfield counties, and all of Hartford, Middlesex, New Haven, New London, Tolland and Windham counties a serious ozone nonattainment area. This area is referred to as the Greater Hartford area. Additionally, the November 6, 1999 document designated portions of Fairfield and Litchfield counties a severe ozone nonattainment area. This area is referred to as the Connecticut portion of the NY-NJ-CT area, or as Connecticut's severe area.

Section 182(c)(2) of the Act requires that serious, severe, and extreme ozone nonattainment areas develop ROP plans to reduce ozone forming pollutant emissions by 3 percent a year, averaged over each consecutive 3 year period beginning 6 years after the date of the enactment of the 1990 amendments to the Act, until the area reaches its attainment date. The first set of emission reductions are required to occur between November 1996 and November 1999, and are referred to as post-1996 ROP plan reductions.

C. Which Specific Air Pollutants Are Targeted by Connecticut's Plans?

Connecticut's post-1996 plans are geared towards reducing emissions of volatile organic compounds (VOCs) and nitrogen oxides (NOX). These compounds react in the presence of heat and sunlight to form ozone, which is a primary ingredient of smog.

D. What Are the Sources of These Pollutants?

VOCs are emitted from a variety of sources, including motor vehicles, a variety of consumer and commercial products such as paints and solvents, chemical plants, gasoline stations, and other industrial sources. NOX is emitted from motor vehicles, power plants, and other sources that burn fossil fuels.

E. What Harmful Effects Can These Pollutants Produce?

VOCs and NOX react in the atmosphere to form ozone, the prime ingredient of smog in our cities and many rural areas of the country. Though ozone occurs naturally high in our atmosphere, at ground level it is the prime ingredient of smog. When inhaled, even at very low levels, ozone can:

Cause acute respiratory problems;

Aggravate asthma;

Cause significant temporary decreases in lung capacity in some healthy adults;

Cause inflammation of lung tissue;

Lead to hospital admissions and emergency room visits; and

Impair the body's immune system defenses.

F. Should I Be Concerned if I Live Near an Industry That Emits a Significant Amount of These Pollutants?

Industrial facilities that emit large amounts of these pollutants are monitored by Connecticut's environmental agency, the Department of Environmental Protection (DEP). Many facilities are required to emit air pollutants through stacks to ensure that high concentrations of pollutants do not exist at ground level. Permits issued to these facilities include information on which pollutants are being released, how much may be released, and what steps the source's owner or operator is taking to reduce pollution. The Connecticut DEP makes permit applications and permits readily available to the public for review. You can contact the Connecticut DEP for more information about air pollution emitted by industrial facilities in your neighborhood.

G. To What Degree Do Connecticut's Plans Reduce Emissions?

By 1999, Connecticut's plans will reduce VOC emissions by 26 percent and NOx emissions by 19 percent compared to 1990 emission levels. This reduction is attributable to the control strategy outlined in the State's post-1996 plans, and in Connecticut's 15 percent ROP plans for the years 1990 to 1996. EPA approved the 15 percent ROP plans on March 10, 1999 (64 FR 12015).

Connecticut used the appropriate EPA guidance to calculate the 1999 VOC and NOx emission target levels, and the amount of reductions needed to achieve its emission target levels. EPA notes that in addressing photochemically non-reactive VOC's, Connecticut should have removed acetone from its base year inventory in addition to perchloroethylene. Although removing acetone from the inventory makes a very small change to the overall base year calculation, acetone represents a substantial portion of the VOC emission factors Connecticut used to develop base year inventory estimates for the surface coating and graphic arts area source emission categories. Proper characterization of these source categories is particularly important because Connecticut claims emission reduction credit from federal rules that limit emissions from architectural industrial maintenance coatings, and automobile refinishing coatings.

EPA has determined that if Connecticut had excluded acetone from its base year and projected, controlled emission estimates, the net impact would be 0.3 tons per summer day (tpsd) fewer emission reduction credits claimed for the severe area, and 0.9 tpsd fewer emission reduction credits claimed for the serious area. EPA is asking that Connecticut confirm in writing their agreement with this adjustment to the inventory, or submit to EPA new emission estimates that correctly remove acetone from the calculations. EPA believes that this adjustment in Connecticut's inventory constitutes a de minimis change. This adjustment changes Connecticut's 1999 target level by less than 0.5 percent, and has no impact on the associated control strategy. Therefore, Connecticut is not required to put this inventory adjustment for acetone out to public hearing.

Table 1 illustrates the steps used by Connecticut to derive its 1999 emission target levels for VOC and NOX. The VOC emission values shown in parenthesis are EPA's calculation of what the proper emission values would be if acetone were removed from the area source categories mentioned above. The ROP plans submitted by Connecticut indicate that 1999 projected, controlled emissions are below the target levels for the Greater Hartford area and the Connecticut portion of the NY-NJ-CT nonattainment area. Although EPA's calculations indicate that proper adjustment of the base year inventory to exclude acetone results in VOC emissions that slightly exceed the required target level in each nonattainment area, there are substantial surplus NOX emission reductions well below the NOX target level that readily yield the emission reductions needed for Connecticut to meet its ROP targets in the aggregate.

Table 1
Description | NY-NJ-CT: VOC | NY-NJ-CT: NOX | Hartford: VOC | Hartford: NOX
Step 1: 1990 Inventory | 183.8 | 116.9 | 794.2 | 346.7
Step 2: Rate-of Progress Inventory (biogenics and non-reactives subtracted) | 128.2 (126.1) | 116.9 | 408.1 (402.3) | 346.7
Step 3: non-creditable reductions ¹ | 8.2 (1.4 of which occurs between 1996-1999) | 10.0 | 24.2 (4.4 of which occurs between 1996-1999) | 32.4
Step 4: Calculate required reduction (State will use both VOC and NOX rdxns. to meet post-1996 ROP, as shown) | 6.26%, 7.5 (7.4) | 2.74%, 2.9 | 3.76%, 14.4 (14.2) | 5.24%, 16.5
Step 5: Calculate Total Expected Reductions (sum of non-creditable and required 9% reduction.) ² | 1.4+7.5=8.9 (8.8) | 10.0+2.9=12.9 | 4.4+14.4=18.8 (18.6) | 32.4+16.5=48.9
Step 6: Set Target Level for 1999 ³ | 92.9 (93.0) | 104.0 | 306.9 (307.1) | 297.9
Step 7: Projected, Controlled Emissions for 1999 | 92.9 (93.3) | 86.5 | 306.9 (308.0) | 290.9
¹ States cannot take credit for reductions achieved by Federal Motor Vehicle Control Program (FMVCP) measures (new car emission standards) promulgated prior to 1990 or for reductions resulting from requirements to lower the Reid Vapor Pressure (RVP) of gasoline promulgated prior to 1990.
² For VOC, only the FMVCP reductions that accrue between 1996 and 1999 are included in Step 5 because the increment that accrues between 1990 and 1996 is accounted for in development of the 1996 VOC emission target levels.
³ For NOX, target level = Step 2−Step 5. For VOC, target level=1996 targets (101.8 for NY-NJ-CT area, 325.7 for Greater Hartford area) − Step 5.

Connecticut projected its base year emissions to 1999 using growth factors from a variety of sources, including the U.S. Department of Commerce's Bureau of Economic Analysis, and Connecticut State offices of the Department of Labor, Office of Policy and Management, and Department of Transportation.

H. What Changes Were Made to Connecticut's Base Year Inventory?

Connecticut made two changes to its base year emission estimates. The first change was a minor revision made to the State's on-road motor vehicle estimate. Connecticut recalculated base year emissions using the most current version of the mobile model (MOBILE 5b), and also changed the evaluation date to January 1, 1991 to maintain consistency with the evaluation date chosen for its on-road motor vehicle projection, which was January 1, 2000. The second change made was a 3.1 tpsd decrease to the NOX base year emission estimate for a facility operated by Connecticut Light and Power, which is located in the Greater Hartford area, due to a re-evaluation of this facility's emissions. These changes are reflected in the 1990 inventory estimates shown in Table 1 above. EPA approved the Connecticut 1990 base year inventory on October 24, 1997 (62 FR 55336), and proposes to approve these de minimis revisions to Connecticut's inventory.

I. How Will Connecticut Achieve These Emission Reductions?

Connecticut's post-1996 control strategy matches the control strategy described in the EPA's March 10, 1999 approval of the Connecticut 15 percent plans, and also includes additional emission reductions from regulations limiting NOX emissions from stationary point sources, VOC and NOX emission reductions from federal measures limiting emissions from non-road engines promulgated between 1996 and 1999, and VOC and NOX reductions from the on-road mobile sector attributable to the State's Low Emission Vehicle program. These additional control programs are further described below.

NOX RACT

Connecticut has adopted a NOX RACT regulation, the citation for which is 22a-174-22 of the Regulations of Connecticut State Agencies. Facilities covered by the rule needed to comply by May of 1995. Connecticut submitted the rule to EPA on May 29, 1994, as a revision to the State's SIP, and amended the rule in 1997. EPA approved Connecticut's NOX RACT rule on October 6, 1997 (62 FR 52016).

Ozone Transport Commission (OTC) Phase II NOX Requirements

Connecticut adopted a Phase II OTC NOX budget rule on March 3, 1999. Facilities covered by the rule needed to comply by the 1999 ozone season. Connecticut submitted this rule to EPA on July 27, 1999, as a revision to the State's SIP. EPA approved the state's submittal in a direct final action published in the Federal Register on September 28, 1999 (64 FR 52233).

Connecticut applied a rule effectiveness value of 80% in determining emission reductions from the two NOX point source controlmeasures listed above. The state determined that by 1999, these two rules will achieve 35.4 tpsd in emission reductions statewide.

Federal Non-Road Standards

In the June 17, 1994 Federal Register (59 FR 31306), EPA established a regulation setting final emission standards for new heavy duty compression ignition (diesel) engines. These rules adopt NOX and smoke standards for large (>50 HP) non-road diesel engines. Additionally, in the July 3, 1995 Federal Register (60 FR 34581), EPA promulgated the first phase of the regulations to control emissions from new non-road spark-ignition engines. The regulation is found at 40 CFR part 90, and is titled, “Control of Emissions From Non-road Spark-Ignition Engines.” Connecticut correctly applied guidance contained in a November 28, 1994 EPA memorandum pertaining to the federal non-road engine control program to determine the VOC and NOX emission reductions that will occur in the State.

The sale of reformulated gasoline in Connecticut also reduces non-road emissions in the State. The combined effect of reformulated gasoline and the new non-road standards will lower VOC emissions by 3.7 tpsd in the severe area, and 13.9 tpsd in the serious area. NOX emissions will be lower by 0.9 tpsd in the severe area, and by 5.4 tpsd in the serious area.

Connecticut National Low Emission Vehicle Program

Connecticut submitted a National Low Emission Vehicle (NLEV) program to EPA on February 7, 1996, and February 18, 1999. The NLEV program allows auto manufacturers to commit to meet tailpipe standards for cars and light-duty trucks that are more stringent than EPA can mandate. EPA approved the State's NLEV program on March 9, 2000 (65 FR 12476).

The Connecticut ROP plans demonstrate that the VOC and NOX emission reductions from the control strategy will achieve sufficient emission reductions to lower 1999 emission levels below the target levels calculated for each pollutant.

J. Have These Emission Reductions Improved Air Quality in Connecticut?

Ozone levels have decreased in Connecticut during the 1990's, due in part to emission reductions achieved by the State's plans. Pollution control measures implemented by States upwind of Connecticut have also helped ozone levels decline in the State.

K. Connecticut Is Downwind of Many Large Metropolitan Areas. Do Pollutants Emitted in Other States Affect Air Quality in Connecticut?

The pollutants that form ground level ozone can be transported hundreds of miles, and so pollutants emitted in other States can adversely impact air quality in Connecticut. Air pollution emitted from sources in Connecticut contribute to the State's air quality problems, and can also negatively impact air quality in areas downwind of Connecticut. Air quality modeling performed by the New England States and by the Ozone Transport Assessment Group (OTAG) indicates that ozone levels in Connecticut are highest when winds are from the south-west, which supports the conclusion that air quality in Connecticut is negatively impacted by the large metropolitan areas downwind of the state.

L. EPA Recently Required 22 Eastern States, Including Connecticut, To Develop Plans That Will Significantly Reduce Nitrogen Oxide Emissions. Given That Requirement, Why Is Approval of These Plans Needed?

The rate-of-progress plans prepared by Connecticut and other states with ozone nonattainment areas have helped lower ozone levels. Approval of these plans by EPA, and the pollution control measures associated with them, is required by the CAA and will ensure that improvements made in air quality are maintained. Additionally, approval of the regulations associated with them make the rules enforceable by EPA.

Despite the emission reductions achieved through implementation of rate-of-progress plans, many areas of the country still do not meet the one hour ozone standard. The modeling done by the OTAG for the eastern half of the United States indicates that the long distance transport of nitrogen oxides across state borders will prevent many areas from attaining this standard by relying solely on emission reductions from within their borders. The NOX SIP call, which was published as a final rule on October 27, 1998 (63 FR 57356), required large NOX emission reductions across the eastern half of the United States. On May 26, 1999, the U.S. Court of Appeals for the District of Columbia ordered that the EPA suspend implementation of the NOX SIP call pending consideration of a lawsuit that has challenged its requirements. However, on December 17, 1999, EPA granted petitions filed by four northeastern states seeking to reduce ozone pollution through reductions in nitrogen oxide emissions from other states. As a result of that action, 392 facilities in 12 states will have to significantly curtail their NOX emissions. Additionally, on March 3, 2000, the Federal Court of Appeals for the D.C. Circuit issued a ruling generally supportive of EPA's original NOX SIP call.

As previously mentioned, these ROP plans are required by the CAA. Combined with the NOX emission reductions EPA plans to achieve in up-wind states, these ROP plans should assure progress toward attaining the one hour ozone standard in Connecticut.

M. Has Connecticut Met Its Contingency Measure Obligation?

Ozone nonattainment areas classified as serious or above must submit to the EPA, pursuant to sections 172(c)(9) and 182(c)(9) of the Act, contingency measures to be implemented if an area misses an ozone SIP milestone or does not attain the national ambient air quality standard by the applicable date.

Table 1 indicates that Connecticut's post-1996 ROP plans achieve surplus NOX emission reductions. Surplus amounts are calculated by subtracting the NOX target levels in step 6 from the NOX projected, controlled emission levels in step 7. The 17.5 tpsd surplus reductions achieved in the State's portion of the NY-NJ-CT area covers the 3.2 tpsd reduction needed to meet contingency requirements for this area, but the 7 tpsd surplus reductions for the Greater Hartford area do not cover the 9 tpsd contingency obligation for that area.

Connecticut's contingency plan proposes that 2 tons of excess NOX emission reductions achieved in the severe area be applied in the serious area to complete that area's contingency obligation. EPA believes this is an appropriate substitution, as the serious area is immediately downwind of the severe area. Additionally, guidance issued by EPA titled, “Guidance for Implementing the 1-Hour Ozone and Pre-existing PM10 National Ambient Air Quality Standards' includes a policy recommendation that substitution of emission reduction credits from outside of the nonattainment area for ROP purposes be allowed if certain criteria are met. Connecticut's proposed emission reduction substitution meets the criteria outlined in that guidance.

EPA notes that the minor amount of emission reduction credit over-estimation made by Connecticut due to the failure to remove acetone from the base year inventory creates minor VOC shortfalls of 0.3 tpsd in the severe area and 0.9 tpsd in the serious area. However, the large NOX surplus that exists in each area readily compensates for this.

N. Are Conformity Budgets Contained in These Plans?

Section 176(c) of the Act, and 40 CFR 51.452(b) of the Federal transportation conformity rule require states to establish motor vehicle emissions budgets in any control strategy SIP that is submitted for attainment and maintenance of the NAAQS. Connecticut will use such budgets to determine whether proposed projects that attract traffic will “conform” to the emissions assumptions in the SIP.

The December 31, 1997 post-1996 rate of progress plan contained 1999 budgets for nitrogen oxides (NOX) and volatile organic compounds (VOCs) for each nonattainment area. Table 2 contains the 1999 NOX and VOC transportation conformity budgets in tons per summer day:

Table 2.—1999 Budgets in the Post-1996 ROP Plans
Nonattainment area | VOC (tpsd) | NOX (tpsd)
Severe area | 20.5 | 39.4
Serious area | 61.6 | 125.3

On February 10, 1999, Connecticut submitted 2007 budgets for NOX and VOCs to EPA as a required component of the attainment demonstrations for the one-hour ozone standard for each nonattainment area. Due to technical flaws EPA published a document in the Federal Register announcing these budgets inadequate on December 16, 1999 (64 FR 70332 and 64 FR 70348).

However, on February 15, 2000, EPA received the document entitled “Addenda to the Ozone Attainment Demonstrations for the Southwest Connecticut Severe Ozone Nonattainment Area and Greater Connecticut Serious Ozone Nonattainment area.” This document included the revised transportation conformity budgets for 2007 shown below in Table 3:

Table 3.—2007 Budgets
Nonattainment area | VOC (tpsd) | NOX (tpsd)
Severe area | 9.7 | 23.7
Serious area | 30.0 | 79.6

Since these budgets are more restrictive, cover a time frame longer than the post-1996 ROP plans, and are based on the attainment plan, the 2007 budgets take precedence over the 1999 budgets. Furthermore, EPA New England published a document in the Federal Register announcing that these budgets are adequate for use in transportation conformity determinations on June 16, 2000 (65 FR 37778). Therefore, the 2007 budgets supersede the 1999 budgets. As a result, all new and revised State Transportation Improvement Programs that require a conformity determination must conform to these 2007 budgets, not the 1999 budgets contained in the post-1996 rate of progress plan.

EPA's review of this material indicates that Connecticut has met the ROP requirements of the Act, and therefore EPA is proposing to approve the Connecticut post-1996 ROP plans that were submitted as revisions to the State's SIP on December 31, 1997 and January 7, 1998. EPA also proposes approval of minor revisions to the State's 1990 base year inventory. EPA is soliciting public comments on the issues discussed in this document or on other relevant matters. These comments will be considered before taking final action. Interested parties may participate in the Federal rulemaking procedure by submitting written comments to the EPA Regional office listed in the ADDRESSES section of this document.

II. Proposed Action

EPA is proposing to approve the rate-of-progress SIP revision and minor revisions to the 1990 base year inventory submitted by Connecticut on December 31, 1997 and January 7, 1998 as a revision to the SIP.

EPA is soliciting public comments on the issues discussed in this proposal or on other relevant matters. These comments will be considered before EPA takes final action. Interested parties may participate in the Federal rulemaking procedure by submitting written comments to the EPA Regional office listed in the ADDRESSES section of this action.

Nothing in this action should be construed as permitting or allowing or establishing a precedent for any future request for revision to any State implementation plan. Each request for revision to the State implementation plan shall be considered separately in light of specific technical, economic, and environmental factors and in relation to relevant statutory and regulatory requirements.

III. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This rule does not impose an information collection burden under the provisions of the Paperwork Reduction Act of 1995 (44 U.S.C. 3501 et seq.).

List of Subjects in 40 CFR Part 52

Air pollution control, Hydrocarbons, Intergovernmental relations, Nitrogen dioxide, Ozone Environmental protection.

Authority: 42 U.S.C. 7401 et seq.

Dated: June 20, 2000.
Mindy S. Lubber,
Regional Administrator, EPA, New England.

[FR Doc. 00-16629 Filed 6-29-00; 8:45 am]

BILLING CODE 6560-50-P